ENVIRONMENTAL PROTECTION AGENCY

[FRL-7269-9]

Agency Information Collection Activities: Submission for OMB Review; Comment Request; NESHAP for the Portland Cement Manufacturing Industry

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Title: NESHAP for the Portland Cement Manufacturing Industry, OMB Control Number 2060-0416, expiration date August 31, 2002. The ICR describes the nature of the information collection and its expected burden and cost; where appropriate, it includes the actual data collection instrument.

DATES: Comments must be submitted on or before September 30, 2002.

ADDRESSES: Send comments, referencing EPA ICR Number 1801.03 and OMB Control Number 2060-0416, to the following addresses: Susan Auby, United States Environmental Protection Agency, Collection Strategies Division (Mail Code 2822T), 1200 Pennsylvania Avenue, NW., Washington, DC 20460-0001; and to the Office of Information and Regulatory Affairs, Office of Management and Budget (OMB), Attention: Desk Officer for EPA, 725 17th Street, NW., Washington, DC 20503.

FOR FURTHER INFORMATION CONTACT: For a copy of the ICR, contact Susan Auby at EPA by phone at: (202) 566-1672, by E-Mail to: auby.susan@epa.gov, or download off the Internet at: http://www.epa.gov/icr, and refer to EPA ICR Number 1801.03. For technical questions about the ICR, contact Gregory Fried of the Air, Hazardous Waste and Toxics Branch at: (202) 564-7016, or by E-Mail to: fried.gregory@epa.gov.

SUPPLEMENTARY INFORMATION: Title: NESHAP for the Portland Cement Manufacturing Industry, OMB Control Number 2060-0416, EPA ICR Number 1801.03, expiration date August 31, 2002. This is a request for extension of a currently approved collection.

Abstract: The Agency has determined that hazardous air pollutants (HAPs) released from portland cement manufacturing facilities can cause reversible or irreversible health effects including carcinogenic, respiratory, nervous system, developmental, reproductive, and/or dermal health effects.

Respondents are owners or operators of portland cement manufacturing plants. The rule applies to each new, existing or reconstructed kiln, in-line kiln/raw mill and greenfield raw material dryer at these facilities, except for kilns and in-line kiln/raw mills that burn hazardous waste. In addition, the rule applies to each new, existing or reconstructed clinker cooler; raw mill; finish mill; raw material, clinker or finished product storage bin; conveying system transfer point; bagging system and bulk loading and unloading system at facilities which are major sources; and to each existing, reconstructed or new brownfield raw material dryer at facilities which are major sources.

Respondents shall submit notifications (where applicable) and reports of initial and repeat performance test results. Plants must develop and implement a startup, shutdown, and malfunction plan and submit semiannual reports of any event where the plan was not followed. Plants must develop and implement an operations and maintenance plan and conduct and report the results of an annual combustion system inspection. Semiannual reports for periods of operation during which the monitoring parameters are exceeded (or reports certifying that no exceedances have occurred) also are required.

General requirements applicable to all NESHAP require records of applicability determinations; test results; exceedances; periods of startups, shutdowns, or malfunctions; monitoring records; and all other information needed to determine compliance with the applicable standard. Records and reports must be retained for a total of 5 years (2 years at the site; the remaining 3 years of records may be retained off site). The files may be maintained on microfilm, on computer or floppy disks, on magnetic tape disks, or on microfiche.

Subpart LLL requires respondents to install (where feasible) continuous opacity monitors and temperature monitoring systems on kilns and in-line kiln raw mills, and total hydrocarbon continuous emission monitors (THC CEMs) on new greenfield kilns, in-line kiln/raw mills and raw material dryers. Owners and operators are also subject to a deferred requirement to install particulate matter (PM) CEMS. Respondents are also required to maintain records of specific information needed to determine that the standards are being achieved and maintained.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on October 29, 2001. No comments were received.

Burden Statement: The annual public reporting and recordkeeping burden for this collection of information is estimated to average 239 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Portland cement manufacturing facilities.

Estimated Number of Respondents: 107.

Frequency of Response: Semi-annually and on occasion.

Estimated Total Annual Hour Burden: 53,181.

Estimated Total Annualized Capital, O&M Cost Burden: $685,000.

Send comments on the Agency's need for this information, the accuracy of the provided burden estimates, and any suggested methods for minimizing respondent burden, including through the use of automated collection techniques to the addresses listed above. Please refer to EPA ICR Number 1801.03 and OMB Control Number 2060-0416 in any correspondence.

Dated: August 21, 2002.
Oscar Morales,
Director, Collection Strategies Division.

[FR Doc. 02-22232 Filed 8-29-02; 8:45 am]

BILLING CODE 6560-50-P